DEPARTMENT OF THE INTERIOR

National Park Service

Notice of Inventory Completion for Native American Human Remains and Associated Funerary Objects in the Possession of the Phoebe A. Hearst Museum of Anthropology, University of California, Berkeley, Berkeley, CA

AGENCY: National Park Service, Interior.

ACTION: Notice.

Notice is hereby given in accordance with provisions of the Native American Graves Protection and Repatriation Act (NAGPRA), 43 CFR 10.9, of the completion of an inventory of human remains and associated funerary objects in the possession of the Phoebe A. Hearst Museum of Anthropology, University of California, Berkeley, Berkeley, CA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

An assessment of the human remains, and catalogue records and associated documents relevant to the human remains, was made by Phoebe A. Hearst Museum professional staff in consultation with representatives of the Ak Chin Indian Community of the Maricopa (Ak Chin) Indian Reservation, Arizona; Gila River Indian Community of the Gila River Indian Reservation, Arizona; Quechan Tribe of the Fort Yuma Indian Reservation, California & Arizona; Salt River Pima-Maricopa Indian Community of the Salt River Reservation, Arizona; Tohono O’odham Nation of Arizona; Tonto Apache Tribe of Arizona; White Mountain Apache Tribe of the Fort Apache Reservation, Arizona; Yavapai-Apache Nation of the Camp Verde Indian Reservation, Arizona; and Yavapai-Prescott Tribe of the Yavapai Reservation, Arizona.

In 1926, human remains representing at least one individual were removed from a locality east of Somerton, Yuma County, AZ, by Dr. Elliott G. Colby and donated to the Phoebe A. Hearst Museum of Anthropology the following year. Museum records note that the human remains were removed from a “grave in Pima cemetery, Edge of mesa.” No known individual was identified. The three funerary objects are a bowl, an iron chisel-like blade, and a clay ball.

The cultural affiliation was determined by the museum record reference to the “Pima cemetery,” and to the presence of an Euroamerican object with the burial.

Based on the above-mentioned information, officials of the Phoebe A. Hearst Museum of Anthropology have determined that, pursuant to 43 CFR 10.2 (d)(1), the human remains listed above represent the physical remains of at least one individual of Native American ancestry. Officials of the Phoebe Hearst Museum of Anthropology also have determined that, pursuant to 43 CFR 10.2 (d)(2), the three objects listed above are reasonably believed to have been placed with or near individual human remains at the time of death or later as part of the death rite or ceremony. Lastly, officials of the Phoebe Hearst Museum of Anthropology have determined that, pursuant to 43 CFR 10.2 (e), there is a relationship of shared group identity that can be reasonably traced between these Native American human remains and associated funerary objects and the Gila River Indian Community of the Gila River Indian Reservation, Arizona; Quechan Tribe of the Fort Yuma Indian Reservation, California & California; and Salt River Pima-Maricopa Indian Community of the Salt River Reservation, Arizona.

This notice has been sent to officials of the Ak Chin Indian Community of the Maricopa (Ak Chin) Indian Reservation, Arizona; Gila River Indian Community of the Gila River Indian Reservation, Arizona; Quechan Tribe of the Fort Yuma Indian Reservation, California & Arizona; Salt River Pima-Maricopa Indian Community of the Salt River Reservation, Arizona; Tohono O’odham Nation of Arizona; Tonto Apache Tribe of Arizona; White Mountain Apache Tribe of the Fort Apache Reservation, Arizona; Yavapai-Apache Nation of the Camp Verde Indian Reservation, Arizona; and Yavapai-Prescott Tribe of the Yavapai Reservation, Arizona. Representatives of any other Indian tribe that believes itself to be culturally affiliated with these human remains and associated funerary objects should contact C. Richard Hitchcock, NAGPRA Coordinator, Phoebe A. Hearst Museum of Anthropology, University of California, Berkeley, Berkeley CA 94720, telephone (510) 642-6096, before October 15, 2002. Repatriation of the human remains and associated funerary objects to the Gila River Indian Community of the Gila River Indian Reservation, Arizona; Quechan Tribe of the Fort Yuma Indian Reservation, California & California; and Salt River Pima-Maricopa Indian Community of the Salt River Reservation, Arizona may begin after that date if no additional claimants come forward.

Dated: July 22, 2002
C. Timothy McKeown,
Acting Manager, National NAGPRA Program

[FR Doc. 02-23136 Filed 9-11-02; 8:45 am]

BILLING CODE 4310-70-S